DEPARTMENT OF TRANSPORTATION

Surface Transportation Board

[STB Finance Docket No. 34180]

Soo Line Railroad Company—Trackage Rights Exemption—I&M Rail Link, LLC

I&M Rail Link, LLC (I&M) has agreed to grant overhead and local trackage rights to Soo Line Railroad Company d/b/a Canadian Pacific Railway Company (CPR) over its lines located in Illinois, Iowa and Missouri as follows: between River Junction (milepost 159.0) and the I&M/Kansas City Southern Railway Joint Agency Yard, Kansas City, MO (milepost 498.8), via Marquette, Sabula, Davenport and Ottumwa, IA, and Chillicothe, MO, with access to all connections at Kansas City; and between Pingree Grove, IL (milepost 40.26), and Sabula, IA (milepost 140.8), the latter being the point of intersection between the aforementioned routes; and direct access to Ipsco Steel, Inc.’s (Ipsco) steel mill at Montpelier, IA (milepost 206.6).¹

¹ A redacted version of the trackage rights agreement between I&M and CPR was filed with the notice of exemption. The full version of the agreement, as required by 49 CFR 1180.6(a)(7)(ii), was concurrently filed under seal along with a motion for protective order. A protective order was served in this proceeding on April 18, 2002.

The transaction was scheduled to be consummated on or shortly after April 12, 2002.

The purpose of the trackage rights is to allow CPR to serve the Ipsco facility in Montpelier under the terms of a transportation agreement entered into by CPR, I&M and Ipsco.

As a condition to this exemption, any employees affected by the trackage rights will be protected by the conditions imposed in Norfolk and Western Ry. Co.—Trackage Rights—BN, 354 I.C.C. 605 (1978), as modified in Mendocino Coast Ry., Inc.—Lease and Operate, 360 I.C.C. 653 (1980).

This notice is filed under 49 CFR 1180.2(d)(7). If it contains false or misleading information, the exemption is void ab initio. Petitions to revoke the exemption under 49 U.S.C. 10502(d) may be filed at any time. The filing of a petition to revoke will not automatically stay the transaction.

An original and 10 copies of all pleadings, referring to STB Finance Docket No. 34180, must be filed with the Surface Transportation Board, Case Control Unit, 1925 K Street, N.W., Washington, DC 20423-0001. In addition, a copy of each pleading must be served on Diane P. Gerth, LEONARD, STREET AND DEINARD PROFESSIONAL ASSOCIATION, 150 South Fifth Street, Minneapolis, MN 55402.

Board decisions and notices are available on our Web site at “www.stb.dot.gov.”

Decided: April 18, 2002.
By the Board, David M. Konschnik, Director, Office of Proceedings.
Vernon A. Williams,
Secretary.

[FR Doc. 02-10028 Filed 4-24-02; 8:45 am]

BILLING CODE 4915-00-P